DEPARTMENT OF ENERGY

Federal Energy Regulatory Commission

[Docket No. RP01-40-000]

Cove Point LNG Limited Partnership; Notice of Compliance Filing

October 17, 2000.

Take notice that on October 11, 2000, Cove Point LNG Limited Partnership (Cove Point) filed in compliance with Order No. 587-L.

Cove Point states that it is a natural gas storage facility and has no imbalance provisions. Cove Point states that pursuant to Order Granting Clarification, issued September 28, 2000, in Docket No. RM96-1-016, Cove Point is not required to implement imbalance trading on its system.

Any person desiring to be heard or to protest said filing should file a motion to intervene or a protest with the Federal Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and may be viewed on the web at http://www.ferc.fed.us/online/rims.htm (call 202-208-2222 for assistance).

David P. Boergers,
Secretary.

[FR Doc. 00-27098 Filed 10-20-00; 8:45 am]

BILLING CODE 6717-01-M